DEPARTMENT OF EDUCATION

Applications for New Awards; Project Prevent; Correction

AGENCY: Office of Elementary and Secondary Education, Department of Education.

ACTION: Notice; correction.

SUMMARY: On August 19, 2022, the Department of Education (Department) published in the Federal Register a notice inviting applications (NIA) for the fiscal year 2022 Project Prevent competition, Assistance Listing Number 84.184M. This notice corrects the maximum award amount for a single budget period from $600,000 to $800,000. All other information in the NIA remains the same.

DATES: These corrections are applicable September 1, 2022.

FOR FURTHER INFORMATION CONTACT: Nicole White. Telephone: (202) 453-6732. Email: Project.Prevent@ed.gov.

If you are deaf, hard of hearing, or have a speech disability and wish to access telecommunications relay services, please dial 7-1-1.

SUPPLEMENTARY INFORMATION: On August 19, 2022, we published the NIA in the Federal Register (87 FR 51072). We are correcting the August 19, 2022, NIA by changing the Maximum Award from $600,000 to $800,000, to align it with the maximum amount in the Estimated Range of Awards.

Corrections

In FR Doc. No. 2022-17932, published in the Federal Register on August 19, 2022 (87 FR 51072), we make the following correction:

On Page 51075, in the third column, under the heading II. Award Information, revise the text after “Maximum Award:” to read as follows:

“We will not make an award exceeding $800,000 for a single budget period of 12 months.”

Program Authority: 20 U.S.C. 7281.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Senior Advisor, Office of the Secretary, Delegated the Authority to Perform the Functions and Duties of the Assistant Secretary, Office of Elementary and Secondary Education.

[FR Doc. 2022-18872 Filed 8-31-22; 8:45 am]

BILLING CODE 4000-01-P